DEPARTMENT OF THE INTERIOR

Geological Survey

Agency Information Collection Activities: Proposed Collection; Comment Request

AGENCY: U.S. Geological Survey (USGS), Interior.

ACTION: Notice of extension of an information collection (1028-0056).

SUMMARY: To comply with the Paperwork Reduction Act of 1995 (PRA), USGS is inviting comments on a collection of information that we will submit to the Office of Management and Budget (OMB) for review and approval. The information collection request (ICR) concerns the paperwork requirements in the Performance Measures Data, North American Reporting Center for Amphibian Malformations (NARCAM).

DATES: Submit written comments by October 22, 2007.

ADDRESSES: You may submit comments by any of the following methods listed below. Please use the Information Collection Number 1028-0056 as an identifier in your message.

• E-mail USGS at atravnic@usgs.gov. Identify with Information Collection Number 1028-0056 in the subject line.

• Fax: 703-787-7069. Identify with Information Collection Number 1028-0056.

• Mail or hand-carry comments to the Department of the Interior; U.S. Geological Survey; Attention: Alfred Travnicek; 12201 Sunrise Valley Drive, MS-807; Reston, Virginia 20192. Please reference “Information Collection 1028-0056” in your comments.

FOR FURTHER INFORMATION CONTACT: Alfred Travnicek, Clearance Officer for Information Collections, at (703) 648-7231.

SUPPLEMENTARY INFORMATION: Title: North American Reporting Center for Amphibian Malformations (NARCAM) Data Collection Form.

OMB Control Number: 1028-0056.

Abstract: Beginning in 1997, the U.S. Geological Survey has collected voluntary submissions from the research and monitoring community, as well as private citizens, of observational data regarding amphibian malformations. Reports are submitted through the World Wide Web to the USGS National Biological Information Infrastructure (NBII) program, which manages the North American Reporting Center for Amphibian Malformations (NARCAM). Each malformation occurrence submitted through theo online NARCAM reporting form is carefully reviewed by trained professional herpetologists for quality and accuracy. Data associated with the validated reports, including species, malformation type, and geospatial information, are made accessible to the public via the NARCAM Web site. Information may be used by scientists and resource managers within Federal, State, and local agencies, as well as the general public, to identify areas where malformed amphibians have been reported, and the rates of occurrence. The NARCAM dataset is the only publicly available, national dataset on amphibian malformations.

We will be requesting OMB approval for an extension of the NARCAM data collection efforts.

We will protect information from respondents considered private under the Freedom of Information Act (5 U.S.C. 552) and its implementing regulations (43 CFR part 2) and under regulations at 30 CFR 250.197, “Data and information to be made available to the public or for limited inspection.” Contact information for individual reporters is collected, but only for purposes of quality control/quality assurance questions regarding the report. Responses are voluntary. We intend to release data collected on the National Biological Information Infrastructure Web site http://www.nbii.gov, but all personal data about the reporter—name, address, phone number, and/or e-mail address—are removed from the publicly accessible database. The database complies with all Department of the Interior requirements and policies for security and data integrity.

Frequency: The frequency is once, unless the reporter voluntarily submits more than one observation.

Estimated Number and Description of Respondents: Approximately 50-100 public citizens annually.

Estimated Annual Reporting and Recordkeeping “Hour” Burden: The currently approved “hour” burden for the NARCAM data collection form is 150 hours. We estimate the public reporting burden averages 30 minutes per response. This includes the time for reviewing instructions, and completing and reviewing the information. Because many individuals submit more than one malformation report during a single online session, some respondents will exceed the average of 30 minutes per reporting session. The approved “hour” burden of 150 hours is calculated based upon the total number of average annual malformation reports, and not the average number of citizens submitting a report.

Estimated Annual Reporting and Recordkeeping “Non-Hour Cost” Burden: We have identified no “non-hour cost” burden associated with the NARCAM form.

Public Disclosure Statement: The PRA (44 U.S.C. 3501, et seq.) provides that an agency may not conduct or sponsor a collection of information unless it displays a currently valid OMB control number. Until OMB approves a collection of information, you are not obligated to respond.

Comments; Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Before including your address, phone number, e-mail address, or other personal identifying information in your comment, you should be aware that your entire comment—including your personal identifying information—may be made publicly available at any time. While you can ask us in your comment to withhold your personal identifying information from public review, we cannot guarantee that we will be able to do so.

USGS Information Collection Clearance Office: Alfred Travnicek (703) 648-7231.

Dated: August 17, 2007.
Susan D. Haseltine,
Associate Director for Biology, U.S. Geological Survey.

[FR Doc. 07-4118 Filed 8-21-07; 8:45 am]

BILLING CODE 4311-AM-M